DEPARTMENT OF STATE

[Public Notice 3748]

Shipping Coordinating Committee, International Maritime Organization Legal Committee; Notice of Meeting

The Shipping Coordinating Committee (SHC) will conduct an open meeting at 10 a.m. on Friday, October 26, 2001, in Room 2415 at U.S. Coast Guard Headquarters, 2100 Second Street, SW., Washington, DC. The purpose of this meeting is to report the results of the Eighty-Third Session of the International Maritime Organization (IMO) Legal Committee (LEG 83), scheduled for October 8 through 12, 2001.

It is anticipated that at LEG 83 the Committee will spend the majority of its time continuing work on the draft protocol to amend the Athens Convention Relating to the Carriage of Passengers and their Luggage By Sea. The Committee will also review two draft resolutions submitted by the Joint International Maritime Organization/International Labor Organization Ad Hoc Expert Working Group on Liability and Compensation Regarding Claims for Death, Personal Injury and Abandonment of Seafarers (IMO/ILO Joint Ad Hoc Expert Working Group). The draft resolutions propose guidelines for the financial security of seafarers with regard to compensation in cases of death, personal injury or abandonment of seafarers. Discussions of drafting a Wreck Removal Convention will also continue. The Legal Committee will then turn its attention to the implementation of the International Convention on Liability and Compensation for Damage in Connection With the Carriage of Hazardous and Noxious Substances by Sea. Time also will be allotted to address any other issues on the Legal Committee's work program.

Members of the public are invited to attend the SHC meeting up to the seating capacity of the room. Due to building security, it is recommended that those who plan on attending call or send an e-mail two days ahead of the meeting so that we may place your name on a list for security personnel to reference. For further information please contact Captain Joesph F. Ahern or Lieutenant Junior Grade Carolyn Leonard-Cho, at U.S. Coast Guard, Office of Maritime and International Law (G-LMI), 2100 Second Street, SW., Washington, DC 20593-0001; e-mail cleonardcho@comdt.uscg.mil, telephone (202) 267-1527; fax (202) 267-4496.

Dated: October 1, 2001.
Stephen M. Miller,
Executive Secretary, Shipping Coordinating Committee, U.S. Department of State.

[FR Doc. 01-25599 Filed 10-10-01; 8:45 am]

BILLING CODE 4710-07-P